GENERAL SERVICES ADMINISTRATION

[Notice-MG-2012-02; Docket No. 2012-0002; Sequence 9]

Office of Federal High-Performance Green Buildings; Green Building Advisory Committee; Notification of Upcoming Public Advisory Meeting

AGENCY: Office of Governmentwide Policy, General Services Administration (GSA).

ACTION: Meeting notice.

SUMMARY: Notice of this meeting is being provided according to the requirements of the Federal Advisory Committee Act, 5 U.S.C. App. 10(a)(2). This notice provides the schedule and agenda for the May 9, 2012, meeting of the Green Building Advisory Committee Meeting (the Committee). The meeting is open to the public and the site is accessible to individuals with disabilities.

DATES: Effective date: April 24, 2012.

Meeting date: The meeting will be held on Wednesday, May 9, 2012, starting at 9:30 a.m. Eastern time, and ending no later than 4 p.m.

FOR FURTHER INFORMATION CONTACT: Ken Sandler, Designated Federal Officer, Office of Federal High-Performance Green Buildings, Office of Governmentwide Policy, General Services Administration, 1275 First Street NE., Room 633D, Washington, DC 20417, telephone (202) 219-1121 (note: this is not a toll-free number). Additional information about the Committee is available on-line at http://www.gsa.gov/portal/content/121999.

Contact Ken Sandler at (202) 219-1121 to register to comment during the meeting's 30 minute public comment period. Registered speakers/organizations will be allowed 5 minutes and will need to provide written copies of their presentations. Requests to comment at the meeting must be received by 5 p.m. Eastern time, Monday, May 7. Written comments may be provided to Mr. Sandler at ken.sandler@gsa.gov until Monday, May 21. Please contact Mr. Sandler at the email address above to obtain meeting materials.

SUPPLEMENTARY INFORMATION:

Background

The Green Building Advisory Committee will provide advice to GSA as specified in Public Law 110-140, as a mandatory Federal advisory committee. Under this authority, the Committee will advise GSA on the rapid transformation of the Federal building portfolio to sustainable technologies and practices. The Committee will focus primarily on reviewing strategic plans, products and activities of the Office of Federal High-Performance Green Buildings and providing advice regarding how the Office can most effectively accomplish its mission.

Agenda: Wednesday, May 9, 2012.

• Introductions and plans for today's meeting

• Green building certification system review report

• High Performance Green Building Demonstration project at Fort Carson, Colorado

• Updates on other current priority projects of GSA's Office of Federal High-Performance Green Buildings

• 30 minute public comment period for individuals pre-registered per instructions above. Each individual will be able to speak for no more than 5 minutes.

• Closing comments

Meeting Access: The Committee will convene its meeting at: US Access Board Conference Room, 1331 F Street NW., Suite 800, Washington, DC 20004. Persons attending meetings in the Access Board's conference space are requested to refrain from using perfume, cologne, and other fragrances (see http://www.access-board.gov/about/policies/fragrance.htm for more information).

Dated: April 18, 2012.
John C. Thomas,
Deputy Director, Office of Committee and Regulatory Management, General Services Administration.

[FR Doc. 2012-9805 Filed 4-23-12; 8:45 am]

BILLING CODE 6820-14-P